DEPARTMENT OF THE INTERIOR

National Park Service

[NPS-WASO-NAGPRA-21395; PPWOCRADN0-PCU00RP14.R50000]

Notice of Inventory Completion: University of Alabama Museums, Tuscaloosa, AL

AGENCY: National Park Service, Interior.

ACTION: Notice.

SUMMARY: The University of Alabama Museums has completed an inventory of human remains and associated funerary objects in consultation with the appropriate Indian tribes or Native Hawaiian organizations, and has determined that there is a cultural affiliation between the human remains and associated funerary objects and a present-day Indian tribe. Lineal descendants or representatives of any Indian tribe or Native Hawaiian organization not identified in this notice that wish to request transfer of control of these human remains and associated funerary objects should submit a written request to the University of Alabama Museums. If no additional requestors come forward, transfer of control of the human remains and associated funerary objects to the Indian tribe stated in this notice may proceed.

DATES: Lineal descendants or representatives of any Indian tribe or Native Hawaiian organization not identified in this notice that wish to request transfer of control of these human remains and associated funerary objects should submit a written request with information in support of the request to the University of Alabama Museums at the address in this notice by August 15, 2016.

ADDRESSES: Dr. Bill Bomar, Executive Director, University of Alabama Museums, Box 870340, Tuscaloosa, AL 35487, telephone (205) 348-7552.

SUPPLEMENTARY INFORMATION: Notice is here given in accordance with the Native American Graves Protection and Repatriation Act (NAGPRA), 25 U.S.C. 3003, of the completion of an inventory of human remains and associated funerary objects under the control of the University of Alabama Museums, Tuscaloosa, AL. The human remains and associated funerary objects were removed from an undocumented bluff shelter along the Warrior River in Blount County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the University of Alabama Museums professional staff in consultation with the Choctaw Nation of Oklahoma. On October 21, 2015, an updated inventory was sent to the Absentee-Shawnee Tribe of Indians of Oklahoma, Alabama-Coushatta Tribe of Texas (previously listed as the Alabama Coushatta Tribes of Texas), Alabama-Quassarte Tribal Town, Cherokee Nation, Coushatta Tribe of Louisiana, Eastern Band of the Cherokee Indians, Eastern Shawnee Tribe of Oklahoma, Kialegee Tribal Town, Mississippi Band of Choctaw Indians, Poarch Band of Creeks (previously listed as the Parch Band of Creek Indians of Alabama), Seminole Tribe of Florida (previously listed as the Seminole Tribe of Florida (Dania, Big Cypress, Brighton, Hollywood & Tampa Reservations)), The Chickasaw Nation, The Choctaw Nation of Oklahoma, The Muscogee (Creek) Nation, The Seminole Nation of Oklahoma, Thlopthlocco Tribal Town, Tunica-Biloxi Indian Tribe, and the United Keetoowah Band of the Cherokee Indians in Oklahoma.

History and Description of the Remains

In late 1963, the University of Alabama Museums was contacted regarding human remains representing a minimum of one individual removed from an unknown site in Blount County, AL, near the US 31 bridge over the Warrior River. There is a letter on file referencing these human remains, dated November 19, 1963. At an unknown date after November 1963, these human remains were donated to The University of Alabama Museums by Mr. Ferril Goodwin, Sumiton, AL. No known individuals were identified. These human remains were included in a NAGPRA inventory (Human Remains ID 3925 in Unaffiliated Remains: Part 5, Warrior River Survey Project Collection). At a later date, associated artifacts were identified in the collection, along with a note linking the artifacts to the human remains. The two associated funerary objects are fragments of 1 large, rectangular woven cane basket and 4 fragments of an unidentified wooden object. Based on the style and technology of the basket, the University of Alabama Museums believe the likely cultural affiliation of the human remains is Choctaw.

Determinations Made by the University of Alabama Museums

Officials of the University of Alabama Museums have determined that:

• Pursuant to 25 U.S.C. 3001(9), the human remains described in this notice represent the physical remains of one individual of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects to The Choctaw Nation of Oklahoma.

Additional Requestors and Disposition

Lineal descendants or representatives of any Indian tribe or Native Hawaiian organization not identified in this notice that wish to request transfer of control of these human remains and associated funerary objects should submit a written request with information in support of the request to Dr. Bill Bomar, Executive Director, University of Alabama Museums, Box 870340, Tuscaloosa, AL 35487, telephone (205) 348-7552, by August 15, 2016. After that date, if no additional requestors have come forward, transfer of control of the human remains and associated funerary objects to The Choctaw Nation of Oklahoma may proceed.

The University of Alabama Museums is responsible for notifying to the Absentee-Shawnee Tribe of Indians of Oklahoma, Alabama-Coushatta Tribe of Texas (previously listed as the Alabama Coushatta Tribes of Texas), Alabama-Quassarte Tribal Town, Cherokee Nation, Coushatta Tribe of Louisiana, Eastern Band of the Cherokee Indians, Eastern Shawnee Tribe of Oklahoma, Kialegee Tribal Town, Mississippi Band of Choctaw Indians, Poarch Band of Creeks (previously listed as the Parch Band of Creek Indians of Alabama), Seminole Tribe of Florida (previously listed as the Seminole Tribe of Florida (Dania, Big Cypress, Brighton, Hollywood & Tampa Reservations)), The Chickasaw Nation, The Choctaw Nation of Oklahoma, The Muscogee (Creek) Nation, The Seminole Nation of Oklahoma, Thlopthlocco Tribal Town, Tunica-Biloxi Indian Tribe, and the United Keetoowah Band of the Cherokee Indians in Oklahoma that this notice has been published.

Dated: June 27, 2016.
Melanie O'Brien,
Manager, National NAGPRA Program.

[FR Doc. 2016-16609 Filed 7-13-16; 8:45 am]

BILLING CODE 4312-50-P